DEPARTMENT OF ENERGY

Federal Energy Regulatory Commission

[Docket No. CP06-102-000]

Trunkline LNG Company, LLC; Notice of Filing

April 10, 2006.

Take notice that on March 31, 2006, Trunkline LNG Company, LLC (Trunkline LNG), P.O. Box 4967, Houston, Texas 77210-4967, filed an application, pursuant to section 3(a) of the Natural Gas Act (NGA) and part 157 of the Commission's Rules and Regulations, requesting authorization to construct and operate Ambient Air Vaporization (AAV) facilities, and natural gas liquids (NGL) processing equipment at Trunkline LNG's liquefied natural gas (LNG) terminal near Lake Charles, Louisiana. Collectively, these facilities are known as the Infrastructure Enhancement Project (IEP). The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

The AAV facilities will allow Trunkline LNG to regasify LNG by using the surrounding air temperature. This method will reduce the amount of fuel that is used by the existing Submerged Combustion Vaporizer (SCV) facilities. Currently, Trunkline LNG uses approximately 1.6% of sendout capacity as fuel for the existing SCV facilities. The proposed vaporization facilities will not increase the terminal's certificated sendout capacity of 2.1 Bcf/day. The NGL processing equipment will have the capability to extract ethane, and other heavier hydrocarbons from half of the terminal's daily sendout before the gas is sent to the pipeline and then delivered to downstream markets. The construction and operation of the proposed facilities will occur entirely within the existing Trunkline LNG's terminal site. Trunkline LNG estimates that the total capital cost of constructing the IEP facilities will be $273.8 million including AFUDC. Trunkline LNG proposes a recourse reservation rate of $1.2616 per Dt for service under proposed Rate Schedule FAV, using design units based on the sendout capacity associated with the IEP facilities. Trunkline LNG proposed to construct and place the IEP facilities in service by August 2008.

Any questions regarding the application are to be directed to William W. Grygar, Vice President of Rates and Regulatory Affairs, 5444 Westheimer Road, Houston, Texas 77056-5306; phone number (713) 989-7000.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001(a)(1)(iii) and the instructions on the Commission's Web site under the “e-Filing” link. The Commission strongly encourages electronic filings.

Comment Date: May 1, 2006.

Magalie R. Salas,
Secretary.

[FR Doc. E6-5615 Filed 4-14-06; 8:45 am]

BILLING CODE 6717-01-P